DEPARTMENT OF AGRICULTURE

Natural Resources Conservation Service

South Logan/Scott Counties Water Supply Project; Logan and Scott Counties, AR

AGENCY: Natural Resources Conservation Service.

ACTION: Notice of intent to prepare an environmental impact statement.

SUMMARY: Pursuant to section 102(2)(C) of the National Environmental Policy Act of 1969; the Council on Environmental Quality Guidelines (40 CFR Part 1500); the Natural Resources Conservation Service, U.S. Department of Agriculture, gives notice that an environmental impact statement is being prepared for the creation of a municipal and industrial water supply for the cities of Booneville and Waldron, Arkansas in Logan and Scott Counties, Arkansas.

FOR FURTHER INFORMATION CONTACT: Kalven L. Trice, State Conservationist, Natural Resources Conservation Service, Room 3416 Federal Building, 700 West Capitol Avenue, Little Rock, Arkansas 72201, Telephone (501) 301-3100.

SUPPLEMENTARY INFORMATION: The cities of Booneville and Waldron, Arkansas are in need of additional water to ensure an adequate supply of municipal and industrial water due to current and expected growth in the future. Since federal funds will be expened in this study and due to potential public concern, Kalven L. Trice, State Conservationist, has determined that the preparation and review of an environmental impact statement is needed for this project.

Alternatives currently being considered for inclusion in the EIS include the “No Action” alternative; the construction of a flood control/water supply lake located oin the Upper Petit Jean River near Elm Springs, Arkansas; expansion of the existing Boonville and Waldron water supply reservoirs; and pumping water from Blue Mountain Lake, a Corps of Engineers flood control and water supply lake.

A draft environmental impact statement (DEIS) will be prepared and circulated for review by agencies and the public. The Natural Resources Conservation Service invites participation and consultation of agencies and individuals that have special expertise, legal jurisdiction, or interest in the preparation of the draft environmental impact statement. A public scoping meeting will be held to solicit input from the public and to determine the scope of the environmental impact statement on August 13, 2002 from 7 p.m. to 9 p.m. at the Scott County Courthouse in Waldron, Arkansas.

Submit written comments and suggestions on the proposal, or requests to be placed on the EIS mailing list, to Jim Ellis, Biologist, Natural Resources Conservation Service, Natural Resources Planning Staff, Room 3416, Federal Building, 700 West Capitol Avenue, Little Rock, Arkansas 72201, or email to Jim.Ellis@ar.usda.gov.

(This activity is listed in the Catalog of Federal Domestic Assistance under No. 10.904—Watershed Protection and Flood Prevention—and is subject to the provisions of Executive Order 12372, which requires intergovernmental consultation with State and local officials.)
Dated: June 25, 2002.
David A. Weeks,
Assistant State Conservationist, Natural Resources Planning.

[FR Doc. 02-16577 Filed 7-1-02; 8:45 am]

BILLING CODE 3210-16-M